DEPARTMENT OF COMMERCE

International Trade Administration

[A-570-881]

Malleable Cast Iron Pipe Fittings From the People's Republic of China: Final Results of Expedited Second Sunset Review of Antidumping Duty Order

AGENCY: Enforcement and Compliance, International Trade Administration, Department of Commerce.

SUMMARY: As a result of this sunset review, the Department of Commerce (“Department”) finds that revocation of the antidumping duty (“AD”) order would be likely to lead to continuation or recurrence of dumping at the dumping margins identified in the “Final Results of Review” section of this notice.

DATES: Effective: July 21, 2014.

FOR FURTHER INFORMATION CONTACT: Brendan Quinn, AD/CVD Operations, Office III, Enforcement and Compliance, International Trade Administration, Department of Commerce, 1401 Constitution Avenue NW., Washington, DC 20230; telephone: (202) 482-5848, respectively.

SUPPLEMENTARY INFORMATION:

Background

On March 3, 2014, the Department published the notice of initiation of the second sunset review of the AD Order ¹ on malleable cast iron pipe fittings the People's Republic of China (“PRC”), pursuant to section 751(c) of the Tariff Act of 1930, as amended (“the Act”).² Both Anvil International, LLC ³ (“Anvil”) and Ward Manufacturing (“Ward”) timely notified the Department of their intent to participate within the deadline specified in 19 CFR 351.218(d)(1)(i), with each claiming domestic interested party status under section 771(9)(C) of the Act, as a domestic producer of malleable pipe fittings.⁴ The Department then received a complete substantive response jointly filed by both Anvil and Ward (collectively, “Anvil/Ward” or “Domestic Producers”) within the 30-day deadline specified in 19 CFR 351.218(d)(3)(i).⁵ The Department did not receive any responses from any respondent interested parties. As a result, pursuant to section 751(c)(3)(B) of the Act and 19 CFR 351.218(e)(1)(ii)(C)(2), we conducted an expedited (120-day) sunset review of the Order.

¹ See Antidumping Duty Order: Certain Malleable Iron Pipe Fittings From the People's Republic of China, 68 FR 69376 (December 12, 2003) (“Order”).

² See Initiation of Five-Year (“Sunset”) Review, 79 FR 11762 (March 3, 2014).

³ Anvil International Inc., the predecessor to Anvil International, LLC, was one of the petitioners in the initial less-than-fair-value investigation of this proceeding. Ward Manufacturing was also a petitioner in the initial investigation.

⁴ See letter from Anvil entitled, “Five-Year (“Sunset”) Review Of Antidumping Duty Order On Malleable Cast Iron Pipe Fittings From The People's Republic Of China: Notice Of Intent To Participate Of Anvil International, LLC,” dated March 13, 2014, and letter from Ward entitled, “Malleable Cast Iron Pipe Fittings from China, Second Sunset,” dated March 17, 2014.

⁵ See letter from Anvil/Ward entitled, “Malleable Cast Iron Pipe Fittings from China, Second Sunset: Substantive Response to the Notice of Initiation,” dated April 2, 2014 (“Substantive Response”).

Scope of the Order

The products covered by the Order are certain malleable iron pipe fittings, cast, other than grooved fittings, from the PRC. The merchandise is currently classifiable under item numbers 7307.19.90.30, 7307.19.90.60, 7307.19.90.80, and 7326.90.85.88 of the Harmonized Tariff Schedule of the United States (“HTSUS”). Excluded from the scope of this order are metal compression couplings, which are imported under HTSUS number 7307.19.90.80. A metal compression coupling consists of a coupling body, two gaskets, and two compression nuts. These products range in diameter from ½ inch to 2 inches and are carried only in galvanized finish. Although HTSUS subheadings are provided for convenience and customs purposes, the Department's written description of the scope of this proceeding is dispositive.

Analysis of Comments Received

A complete discussion of all issues raised in this sunset review is provided in the accompanying Issues and Decision Memorandum, which is hereby adopted by this notice.⁶ The issues discussed in the Issues and Decision Memorandum include the likelihood of continuation or recurrence of dumping and the magnitude of the margins of dumping likely to prevail if the order were revoked. The Issues and Decision Memorandum is a public document and is on file electronically via Enforcement and Compliance's Antidumping and Countervailing Duty Centralized Electronic Service System (“IA ACCESS”). Access to IA ACCESS is available to registered users at http://iaaccess.trade.gov and to all parties in the Central Records Unit, room 7046 of the main Department of Commerce building. In addition, a complete version of the Issues and Decision Memorandum can be accessed at http://enforcement.trade.gov/frn/. The signed Issues and Decision Memorandum and the electronic version of the Issues and Decision Memorandum are identical in content.

⁶ See the Department's memorandum from Christian Marsh, Deputy Assistant Secretary for Antidumping and Countervailing Duty Operations, to Paul Piquado, Assistant Secretary for Enforcement and Compliance, entitled, “Issues and Decision Memorandum for the Final Results of the Expedited Second Sunset Review of the Antidumping Duty Order on Malleable Cast Iron Pipe Fittings from the People's Republic of China,” dated concurrently with this notice.

Final Results of the Sunset Review

Pursuant to section 752(c)(3) of the Act, the Department determines that revocation of the Order would be likely to lead to continuation or recurrence of dumping at weighted-average dumping margins up to 111.36 percent.

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act.

Dated: June 27, 2014.
Paul Piquado,
Assistant Secretary for Enforcement and Compliance.

[FR Doc. 2014-17108 Filed 7-18-14; 8:45 am]

BILLING CODE 3510-DS-P